DEPARTMENT OF THE INTERIOR

Bureau of Land Management

[CA-310-1820 XZ]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The meeting will be held Thursday and Friday, Oct. 4 and 5, 2007, at the BLM Surprise Field Office, 602 Cressler St., Cedarville, Calif. On Oct. 4, members will convene at 9 a.m. and depart for a field tour to lands within the Black Rock Desert-High Rock Canyon Emigrant Trails National Conservation Area. On Oct. 5, the council will convene a business meeting at 8 a.m. in the meeting room at Bruno's, 445 Main St., Gerlach, Nevada. Public comments will be taken at 11 a.m.

FOR FURTHER INFORMATION CONTACT: Tim Burke, BLM Alturas Field Office manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics will include an update on the Sagebrush Steppe Ecosystem Restoration Project, a status report on sage grouse conservation strategies, an update on the resource management plan protest process, a status report on wind energy proposals and information on current issues in the BLM's Wild Horse and Burro Program. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: August 27, 2007.
Joseph J. Fontana,
Public Affairs Officer.

[FR Doc. E7-17363 Filed 8-30-07; 8:45 am]

BILLING CODE 4310-40-P